DEPARTMENT OF AGRICULTURE

Animal and Plant Health Inspection Service

9 CFR Part 77

[Docket No. APHIS-2010-0097]

Tuberculosis in Cattle and Bison; State and Zone Designations; Minnesota

AGENCY: Animal and Plant Health Inspection Service, USDA.

ACTION: Interim rule and request for comments.

SUMMARY: We are amending the bovine tuberculosis regulations regarding State and zone classifications by reclassifying the two zones in Minnesota. We have determined that the zone consisting of an area in the northwest corner of the State meets the criteria for designation as a modified accredited advanced zone, and the zone comprising the remainder of the State meets the criteria for designation as an accredited-free zone. This action relieves certain restrictions on the interstate movement of cattle and bison from Minnesota.

DATES: This interim rule is effective October 1, 2010. We will consider all comments that we receive on or before November 30, 2010.

ADDRESSES: You may submit comments by either of the following methods:

• Federal eRulemaking Portal: Go to http://www.regulations.gov/fdmspublic/component/main?main=DocketDetail&d=APHIS-2010-0097 to submit or view comments and to view supporting and related materials available electronically.

• Postal Mail/Commercial Delivery: Please send one copy of your comment to Docket No. APHIS-2010-0097, Regulatory Analysis and Development, PPD, APHIS, Station 3A-03.8, 4700 River Road Unit 118, Riverdale, MD 20737-1238. Please state that your comment refers to Docket No. APHIS-2010-0097.

Reading Room: You may read any comments that we receive on this docket in our reading room. The reading room is located in Room 1141 of the USDA South Building, 14th Street and Independence Avenue, SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Alecia Naugle, Coordinator, National Tuberculosis Eradication Program, Veterinary Services, APHIS, 4700 River Road Unit 43, Riverdale, MD 20737; (301) 734-6954.

SUPPLEMENTARY INFORMATION:

Background

Bovine tuberculosis is a contagious and infectious granulomatous disease caused by the bacterium Mycobacterium bovis. Although commonly defined as a chronic debilitating disease, bovine tuberculosis can occasionally assume an acute, rapidly progressive course. While any body tissue can be affected, lesions are most frequently observed in the lymph nodes, lungs, intestines, liver, spleen, pleura, and peritoneum. Although cattle are considered to be the true hosts of M. bovis, the disease has been reported in several other species of both domestic and nondomestic animals, as well as in humans.

At the beginning of the past century, tuberculosis caused more losses of livestock than all other livestock diseases combined. This prompted the establishment in the United States of the National Cooperative State/Federal Bovine Tuberculosis Eradication Program for tuberculosis in livestock.

In carrying out the national eradication program, the Animal and Plant Health Inspection Service (APHIS) issues and enforces regulations. The regulations require the testing of cattle and bison for tuberculosis, define the Federal tuberculosis status levels for States or zones (accredited-free, modified accredited advanced, modified accredited, accreditation preparatory, and nonaccredited), provide the criteria for attaining and maintaining those status levels, and contain testing and movement requirements for cattle and bison leaving States or zones of a particular status level. These regulations are contained in 9 CFR part 77 and in the Bovine Tuberculosis Eradication Uniform Methods and Rules, 1999 (UMR), which is incorporated by reference into the regulations.

The status of a State or zone is based on its prevalence of tuberculosis in cattle and bison, the effectiveness of the State's tuberculosis eradication program, and the degree of the State's compliance with standards for cattle and bison contained in the UMR. In addition, the regulations allow that a State may request split-State status via partitioning into specific geographic regions or zones with different status designations if bovine tuberculosis is detected in a portion of a State and the State demonstrates that it meets certain criteria with regard to zone classification.

Requests for Advancement of Modified Accredited Advanced Zone and Advancement of Modified Accredited Zone

In an interim rule effective and published in the Federal Register on October 10, 2008 (73 FR 60099-60102, Docket No. APHIS-2008-0117), we amended the tuberculosis regulations for cattle and bison by dividing Minnesota into two zones for tuberculosis. We added an area in the northwest corner of the State to the list of modified accredited zones, and added the remainder of the State to the list of modified accredited advanced zones. The modified accredited zone, which was the smaller of the two zones, consisted of portions of the Minnesota counties of Lake of the Woods, Roseau, Marshall, and Beltrami. This action was taken after we received from the State of Minnesota a request for zone classification for tuberculosis and conducted a risk assessment and program review to evaluate that request.

We have received from the State of Minnesota applications to upgrade the designations of both the modified accredited advanced and modified accredited zones. Based on our review of the applications and the findings of a review of the tuberculosis eradication program in Minnesota conducted in November 2009, APHIS has determined that both zones meet the criteria for advancement of status contained in the regulations.

State animal health officials in Minnesota have demonstrated that the State enforces and complies with the provisions of the UMR. The State of Minnesota has demonstrated that the modified accredited advanced zone has zero percent prevalence of cattle and bison herds affected with tuberculosis, and has had no findings of tuberculosis in any cattle or bison in the zone since it was established in October 2008. Therefore, Minnesota has demonstrated that the zone within the State previously classified as modified accredited advanced meets the criteria as set forth in the definition of accredited-free State or zone in § 77.5 of the regulations.

Similarly, with respect to the current modified accredited zone in the northwest corner of the State, Minnesota has demonstrated that tuberculosis has been prevalent in less than 0.01 percent of the total number of herds of cattle and bison in the zone for the past 2 years. Therefore, Minnesota has shown that the zone within the State previously classified as modified accredited meets the criteria as set forth in the definition of modified accredited advanced State or zone in § 77.5 of the regulations.

Based on our evaluation of Minnesota's request in light of the criteria set forth in the regulations, we are classifying the two zones in Minnesota as follows:

• The modified accredited zone, consisting of portions of the Minnesota counties of Lake of the Woods, Roseau, Marshall, and Beltrami, is removed from the list of modified accredited zones in § 77.11(b)(2) and added to the list of modified accredited advanced zones in § 77.9(b)(2). A complete description of the boundaries of this zone is contained in the regulatory text at the end of this document.

• All of the State of Minnesota except for the zone described above is removed from the list of modified accredited advanced zones in § 77.9(b)(2) and added to the list of accredited-free zones in § 77.7(b) as paragraph (b)(3).

Immediate Action

Immediate action is warranted to relieve restrictions on the interstate movement of cattle and bison from the newly classified modified accredited advanced zone in Minnesota. Under these circumstances, the Administrator has determined that prior notice and opportunity for public comment are contrary to the public interest and that there is good cause under 5 U.S.C. 553 for making this action effective less than 30 days after publication in the Federal Register.

We will consider comments we receive during the comment period for this interim rule (see DATES above). After the comment period closes, we will publish another document in the Federal Register. The document will include a discussion of any comments we receive and any amendments we are making to the rule.

Executive Order 12866 and Regulatory Flexibility Act

This rule has been reviewed under Executive Order 12866. For this action, the Office of Management and Budget has waived its review under Executive Order 12866.

In accordance with the Regulatory Flexibility Act, we have analyzed the potential economic effects of this action on small entities. The analysis is summarized below. The full analysis may be viewed on the Regulations.gov Web site (see ADDRESSES above for instructions for accessing Regulations.gov) or obtained from the person listed under FOR FURTHER INFORMATION CONTACT.

Advancing the status of the two zones in Minnesota will reduce the interstate movement restrictions for cattle and bison originating from that State. Herd owners will benefit from time savings and reduced costs associated with tuberculosis testing. However, the cost savings will be relatively small; those testing costs are small relative to the value of the cattle, and relatively few producers—less than 1 percent of all cattle producers in the State—will be affected. Total annual cost savings to producers are likely to be under $200,000.

The reclassified accredited free zone will include about 99 percent of all cattle herds in the State. The elevation of an area from modified accredited advanced to accredited free status eliminates all remaining interstate movement restrictions for cattle and bison originating from this zone.

The reclassified modified accredited advanced zone will include 267 cattle herds, 17 of which are dairy herds. The elevation to modified accredited advanced status from modified accredited status removes both individual animal and whole herd testing requirements for producers within this zone. Tuberculosis testing, including veterinary fees, costs about $10 to $15 per head. Based on state-wide estimates of interstate movement, annual cost savings associated with reduced testing of feeder cattle moving out of State from this zone could total between $10,000 and $15,000. Annual cost savings associated with the removal of whole herd testing for non-accredited beef herds engaged in interstate movement of breeding cattle and for all dairy herds in this zone could be between about $120,000 and $180,000.

Under these circumstances, the Administrator of the Animal and Plant Health Inspection Service has determined that this action will not have a significant economic impact on a substantial number of small entities.

Executive Order 12372

This program/activity is listed in the Catalog of Federal Domestic Assistance under No. 10.025 and is subject to Executive Order 12372, which requires intergovernmental consultation with State and local officials. (See 7 CFR part 3015, subpart V.)

Executive Order 12988

This rule has been reviewed under Executive Order 12988, Civil Justice Reform. This rule: (1) Preempts all State and local laws and regulations that are in conflict with this rule; (2) has no retroactive effect; and (3) does not require administrative proceedings before parties may file suit in court challenging this rule.

Paperwork Reduction Act

This rule contains no new information collection or recordkeeping requirements under the Paperwork Reduction Act of 1995 (44 U.S.C. 3501 et seq.).

List of Subjects in 9 CFR Part 77

Animal diseases, Bison, Cattle, Reporting and recordkeeping requirements, Transportation, Tuberculosis.

Accordingly, we are amending 9 CFR part 77 as follows:

PART 77—TUBERCULOSIS

1. The authority citation for part 77 continues to read as follows:

Authority: 7 U.S.C. 8301-8317; 7 CFR 2.22, 2.80, and 371.4.

2. In § 77.7, a new paragraph (b)(3) is added to read as follows:

§ 77.7 Accredited-free States or zones.

* * * * *

(b) * * *

(3) All of the State of Minnesota except for the zones that comprise those counties or portions of counties in Minnesota described in § 77.9(b)(2).

* * * * *

3. In § 77.9, paragraph (b)(2) is revised to read as follows:

§ 77.9 Modified accredited advanced States or zones.

* * * * *

(b) * * *

(2) Those portions of the Minnesota counties of Lake of the Woods, Roseau, Marshall, and Beltrami bounded by a line as follows: Beginning in Lake of the Woods County at the intersection of the U.S./Canadian border and the western shoreline of Lake of the Woods; then west along the U.S./Canadian border (crossing into Roseau County) to Roseau County Road 115; then south along Roseau County Road 115 to State Highway 11; then southwest along State Highway 11 to State Highway 32; then south along State Highway 32 (crossing into Marshall County) to Marshall County Road 47/124; then east along Marshall County Road 47/124 to 210th Avenue Northeast; then south along 210th Avenue Northeast and southwest to where the name changes to 200th Avenue Northeast; then south along 200th Avenue Northeast to County Road 121; then south along the western boundary of Agassiz National Wildlife Reserve and along the western boundary of the Elm Lake State Wildlife Management Area to the southwest corner of sec. 21 in T. 155 N., R. 42 W. of the Fifth Prime Meridian; then east along the southern boundary of secs. 21, 22, 23, and 24 in T. 155 N., R. 42 W. and secs. 19 and 20 in T. 155 N., R. 41 W.; then south along the western boundary of secs. 28 and 33 in T. 155 N., R. 41 W.; then continuing south along Marshall County Road 52 to the southern boundary of Marshall County; then east along the southern boundary of Marshall County to the western boundary of Beltrami County (also the boundary of the Red Lake Indian Reservation); then north along the Beltrami County boundary (also the boundary of the Red Lake Indian Reservation) to the northern boundary of the Red Lake Indian Reservation; then east along the northern boundary of the Red Lake Indian Reservation to the southeast corner of sec. 36 in T. 155 N., R. 34 W.; then north along the eastern boundary of Townships 155, 156, 157 (crossing into Lake of the Woods County), 158, 159, 160, and 161 N., R. 34 W., to State Highway 11; then northwest and north along State Highway 11 to County Road 74; then east along County Road 74 to Main Avenue Northeast; then north along Main Avenue Northeast to the northern city limits of Warroad; then east along the Warroad city limits to the shore of Lake of the Woods; then along the shore of Lake of the Woods to the point of beginning.

* * * * *

§ 77.11 [Amended]

4. Section 77.11 is amended by removing and reserving paragraph (b)(2).

Done in Washington, DC, this 27th day of September 2010.
Kevin Shea,
Acting Administrator, Animal and Plant Health Inspection Service.

[FR Doc. 2010-24667 Filed 9-30-10; 8:45 am]

BILLING CODE 3410-34-P